DEPARTMENT OF TRANSPORTATION

Federal Aviation Administration

Public Notice for Release of Aeronautical Property at Erie International Airport (ERI), Erie, PA

AGENCY: Federal Aviation Administration (FAA) DOT.

ACTION: Request for public comment.

SUMMARY: The Federal Aviation Administration is requesting public comment on the Erie Regional Airport Authority's request to release airport property for use by the Pennsylvania Department of Transportation (PennDOT) to construct and maintain additional roadway and drainage facilities along the west side of Asbury Road. The request contains five (5) components consisting of a permanent release of land, release of land for drainage easement, release of land for temporary construction easement, release of land for substitute right-of-way, and release of land for permanent gas line easement.

(1) Permanent Release of Land (PennDOT Right-of-Way)—0.72 Acres

The parcel is located at Erie International Airport (ERI) in Millcreek Township, Erie County, PA. The property is currently depicted on the Airport Layout Plan of record as airport property and consists of a narrow strip of land varying from 22 feet to 48 feet in width and approximately 800 linear feet long consisting mostly of natural growth grass and vegetation bounded by Asbury Rd to the east. More specifically, the 0.72 acre parcel is located upon Parcel 4 and 5 of the airport property. The County Index Nos. are (33)039-147.00-001.00 and (33)039-148.00-001.00. The airport is requesting approval to sell this land to the PennDOT in a permanent right-of-way easement for roadway drainage improvements along the right-of-way boundary between Asbury Road and the airport property boundary. This area is not needed for aeronautical use and its use as PennDOT Right-of-Way does not limit or restrict the use of dedicated airport land for current or foreseeable aeronautical activities. Approval of this action will allow for the sale of the 0.72 acre right-of-way easement to PennDOT.

(2) Release of Land for Drainage Easement—0.014 Acres

The easement is located at Erie International Airport (ERI) in Millcreek Township, Erie County, PA. The 0.014 acre parcel is located on Parcel 1 and 5 of the airport property, Erie County Index No. 039-147.00-001.00. The Airport Authority is requesting release of this land for purposes of providing a drainage easement for construction, inspection, maintenance, repair, reconstruction, and alteration of the highway drainage facilities for Asbury Road. The easement area is on Parcel 5 and consists of undeveloped land with natural growth grass and vegetation. Asbury Road is being widened to accommodate additional anticipated traffic volume related to increased commercial development in and around the airport. This will result in an increase in impervious surface making it necessary to install new stormwater management facilities. As such, a drainage easement will be required for PennDOT to maintain stormwater facilities not located within the PennDOT Right-of-Way. The airport will be permitted to use this property, but will not be able to place any structures, create any adverse impacts to the flow of stormwater, or connect any pipes or drainage into the PennDOT system without written consent from PennDOT. This area is not needed for aeronautical use and its use as PennDOT easement does not limit or restrict the use of dedicated airport land for current or foreseeable aeronautical activities. Approval of this action will allow for the sale of the 0.014 acre drainage easement to PennDOT.

(3) Release of Land for Temporary Construction Easement—0.078 Acres

The easement is located at Erie International Airport (ERI) in Millcreek Township, Erie County, PA. The 0.078 acre area is located on Parcels 1 and 5 of the airport property, Erie County Index No. (33) 039-147.00-001.00. The Airport Authority is requesting release of this land for purposes of providing easement for construction activities outside the PennDOT Right-of-Way. This request for release of land from the Erie Regional Airport Authority is temporary and the land will revert back to the airport upon completion of the construction activities. The primary purpose of this temporary land release is to allow for the adjustment of the existing driveways on Parcel 1 of the airport to tie into Asbury Road. Parcel 5 is also temporarily impacted while Stormwater Management facilities are being constructed. The impacted land, currently consisting of asphalt paved driveways in Parcel 1 and undeveloped grass and vegetation on Parcel 5, will be restored to similar condition upon completion of the construction work. This area is not needed for aeronautical use and its use as a temporary construction easement does not limit or restrict the use of dedicated airport land for current or foreseeable aeronautical activities. Approval of this action will allow for the granting of the temporary easement consisting of 0.078 acres to PennDOT.

(4) Release of Land for Substitute Right-of-Way Utility Easement—0.198 Acres

The easement is located at Erie International Airport (ERI) in Millcreek Township, Erie County, PA. The 0.198 acre area is located along the west side of Asbury Road and is situated on Parcel 5 of the airport property on County Index No. (33) 039-147.00-001.00. The property to be released is a strip of land of natural growth grass and vegetation approximately 20′ wide and running parallel along the west side of Asbury Road. The release will provide a replacement utility easement for Millcreek Township Water and Sewer Authority to construct, inspect, maintain, repair and reconstruct water line facilities along Asbury Road. The existing utility easement is located on airport property. Asbury Road is being widened by PennDOT to accommodate additional traffic volume related to increased commercial development in the vicinity of the airport. As part of the roadway project, a new water main will need to be constructed outside the limits of the pavement of the widened Asbury Road. This easement will provide a substitute Right-of-Way Easement for locating the replacement water main. This area is not needed for aeronautical use and its use as a temporary construction easement does not limit or restrict the use of dedicated airport land for current or foreseeable aeronautical activities. Approval of this action will allow for the granting of the substitute water line easement consisting of 0.198 acres to the Millcreek Township Water and Sewer Authority for the replacement water main.

(5) Release of Land for Replacement Gas Line Easement—Net Change 0.00 Acres

The existing and replacement easement are located at Erie International Airport (ERI) in Millcreek Township, Erie County, PA. The existing easement is located along the west side of Asbury Road and is situated on Parcels 4 and 5 of the airport property on County Index No. (33) 039-147.00-001.00. This replacement gas line easement will provide a replacement utility easement for National Fuel Gas (NGS) to construct, inspect, maintain, repair and reconstruct a gas line utility along Asbury Road. The existing utility easement is currently located on airport property. Asbury Road is being widened by PennDOT to accommodate additional traffic volume related to increased commercial development in the vicinity of the airport. As part of the roadway project, a new replacement gas line utility will need to be constructed outside the limits of the widened Asbury Road. This easement will provide a substitute Right-of-Way Easement for locating the replacement National Fuel Gas line. This easement area is not needed for aeronautical use and its use as a replacement utility easement does not limit or restrict the use of dedicated airport land for current or foreseeable aeronautical activities. Approval of this action will allow for the granting of of the substitute Gas Line easement to National Fuel Gas (NFG) for installing the relocated replacement gas line.

Documents reflecting the airport sponsor's request are available, by appointment only, for inspection at the Erie International Airport Executive Director's office and the FAA Harrisburg Airport District Office.

DATES: Comments must be received on or before December 31, 2011.

ADDRESSES: Documents are available for review at the Airport Manager's office:

Christopher L. Rodgers, Airport Executive Director, Erie Regional Airport Authority, 4411 W. 12th St., Erie, PA 16505, (814) 833-4258.

and at the FAA Harrisburg Airports District Office:

Oscar D. Sanchez, Program Manager, Harrisburg Airports District Office, 3905 Hartzdale Dr., Suite 508, Camp Hill, PA 17011, (717) 730-2830.

FOR FURTHER INFORMATION CONTACT: Oscar D. Sanchez, Program Manager, Harrisburg Airports District Office (location listed above).

SUPPLEMENTARY INFORMATION: The FAA invites public comment on the request to release for sale or easement current airport property at the Erie International Airport at fair market value under the provisions of Section 47125(a) of Title 49 U.S.C.

The following is a brief overview of the request:

The Erie International Airport (ERI) has requested the sale of Right-of-Way and easements of airport property, along the airport's western boundary with Asbury Rd. The Erie Regional Airport Authority (ERAA), as owner of the Erie International Airport (ERI), have been approached by the Pennsylvania Department of Transportation (PennDOT) with a request for Right-of-way, drainage, construction and utility easement acquisition to support a State roadway widening project of Asbury Road. As part of this roadway widening project, PennDOT is required to obtain additional Right-of-Way on the west side of Asbury Road to construct and maintain additional roadway and drainage facilities. Drainage easements will also be needed for the maintenance of the drainage facilities outside the PennDOT Right-of-Way. Temporary construction easements will be needed for the connection of existing driveways and drainage facilities to the new roadway construction. A substitute utility easement needs to be granted to The Millcreek Water and Sewer Authority for the relocation of the existing water main, which will need to be brought outside the widened Asbury Road. In addition, National Fuel Gas (NFG) is requesting a permanent easement to relocate and maintain a replacement gas line. The current NFG gas line is located on airport property within an existing easement. The proposed relocated line will be located on airport property with a similar replacement easement.

Portions of this airport-owned land were acquired with the assistance of a Federal Aviation Agency Grant issued on June 7, 1962 for purchase of Parcels 4 and 5 by the Erie Municipal Airport Authority. There are no known adverse impacts to the operation of the airport and the land is not needed for any foreseeable future aeronautical development as shown on the approved Erie International Airport Layout Plan (ALP). Any proceeds from the sale of the right of way and easements are to remain on the airport for capital development and to cover the operating costs of the Airport.

Any person may inspect the request by appointment at the FAA office address listed above. Interested persons are invited to comment on the proposed change in use of the property. All comments will be considered by the FAA to the extent practicable.

Issued in Camp Hill, Pennsylvania, on December 1, 2011.
Lori K. Pagnanelli,
Manager, Harrisburg Airports District Office.

[FR Doc. 2011-33562 Filed 12-29-11; 8:45 am]

BILLING CODE P